SMALL BUSINESS ADMINISTRATION

[Disaster Declaration #11286 and #11287]

Indiana Disaster Number IN-00019

AGENCY: U.S. Small Business Administration.

ACTION: Amendment 2.

SUMMARY: This is an amendment of the Presidential declaration of a major disaster for the State of Indiana (FEMA-1766-DR), dated 06/11/2008.

Incident: Severe Storms, Flooding, and Tornadoes.

Incident Period: 05/30/2008 and continuing.

EFFECTIVE DATE: 06/16/2008.

Physical Loan Application Deadline Date: 08/11/2008.

EIDL Loan Application Deadline Date: 03/11/2009.

ADDRESSES: Submit completed loan applications to: U.S. Small Business Administration, Processing and Disbursement Center, 14925 Kingsport Road,Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Indiana, dated 06/11/2008 is hereby amended to include the following areas as adversely affected by the disaster:

Primary Counties: (Physical Damage and Economic Injury Loans):

Decatur, Wayne.

Contiguous Counties: (Economic Injury Loans Only):

Indiana: Union.

Ohio: Preble.

All other information in the original declaration remains unchanged.

(Catalog of Federal Domestic Assistance Numbers 59002 and 59008.)

James E. Rivera,
Acting Associate Administrator for Disaster Assistance.

[FR Doc. E8-14092 Filed 6-20-08; 8:45 am]

BILLING CODE 8025-01-P